DEPARTMENT OF ENERGY

Federal Energy Regulatory Commission

Combined Notice of Filings

Take notice that the Commission has received the following Natural Gas Pipeline Rate and Refund Report filings:

Docket Numbers: RP20-1108-000.

Applicants: Southern Natural Gas Company, L.L.C.

Description: § 4(d) Rate Filing: Fuel Retention Rates—Winter 2020 to be effective 10/1/2020.

Filed Date: 8/20/20.

Accession Number: 20200820-5016.

Comments Due: 5 p.m. ET 9/1/20.

Docket Numbers: RP20-1109-000.

Applicants: Colorado Interstate Gas Company, L.L.C.

Description: Compliance filing Penalties Assessed Compliance Filing to be effective N/A.

Filed Date: 8/20/20.

Accession Number: 20200820-5023.

Comments Due: 5 p.m. ET 9/1/20.

Docket Numbers: RP20-1110-000.

Applicants: Kern River Gas Transmission Company.

Description: § 4(d) Rate Filing: 2020 Mesquite Meter and UT/NV Pool to be effective 9/22/2020.

Filed Date: 8/20/20.

Accession Number: 20200820-5043.

Comments Due: 5 p.m. ET 9/1/20.

Docket Numbers: RP20-1111-000.

Applicants: Transcontinental Gas Pipe Line Company, LLC.

Description: § 4(d) Rate Filing: GT&C Section 49—Bid Evaluation to be effective 9/20/2020.

Filed Date: 8/20/20.

Accession Number: 20200820-5046.

Comments Due: 5 p.m. ET 9/1/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2020.
Kimberly D. Bose,
Secretary.

[FR Doc. 2020-18919 Filed 8-27-20; 8:45 am]

BILLING CODE 6717-01-P